DEPARTMENT OF STATE

[Public Notice 4179]

Advisory Committee Meeting on Law Applicable to Securities Intermediaries Meeting Notice

The State Department's Advisory Committee on Private International Law Study Group on International Securities Transactions will hold two meetings at the Federal Reserve Bank of New York on proposed treaty rules on determining the law applicable to securities intermediaries for cross-border arrangements, and in particular the law applicable to dispositions of securities held through an indirect holding system. The meeting will provide an opportunity for comment on current proposals for such rules, on which final agreement will be sought in December 2002.

A preliminary meeting will be held on Tuesday, October 29 from 10 a.m. until 4 p.m., and a final meeting on Wednesday, November 20 to review positions of the securities industry, agency authorities, and state and federal securities law and other related interests.

Finalization of the proposed rules, to be set out in multilateral treaty form, will be sought under the auspices of the Hague Conference on Private International Law, located at The Hague, Netherlands, an international private law body of which the United States is a member. Finalization of the proposed treaty rules does not in any manner commit the United States or any participant to implement the rules, and a review of the rules as adopted and full opportunity for comment will be initiated during the first quarter 2003.

Agenda: The meeting will review the latest draft rules which have been considered by a number of countries, organizations and industry representatives since work on this topic was initated in January 2001, together with proposed amendments thereto. Recommendations will also be sought on further amendments and provisions that may be suggested.

Subject to availability of time, the meeting will review developments involving direct and indirect holders of securities, transfers of interest, dematerialization and immobilization of securities, the systemic role of multiple indirect holding systems, and the balance of interests to be achieved through harmonization at the international level by treaty. Among other issues, an applicable law regime will need to address what law governs transfers of securities held through custodial accounts and financial intermediaries. Important in that regard will be the interface with existing state and federal law in the United States.

Time permitting, the desirability of new efforts to prepare substantive rules on securities intermediaries by other international bodies which could build on progress achieved at the Hague Conference will be discussed, including in particular UNIDROIT and the Organization of American States (OAS).

Documentation: The conference working documents are available at http://www.hcch.net, including the most recent draft provisions, in particular Preliminary Doc. Nos. 15 and 16, and the initial basic study by the Permanent Bureau of the Hague Conference, “Law applicable to disposition of securities held through indirect holding systems”, Prel. Doc. No. 1.

Attendance: The public is invited to attend up to the capacity of the meeting room and may participate subject to the rulings of the chair. The meetings will take place at 10 a.m. to 4 p.m. at the New York Federal Reserve Bank, 33 Liberty Street, NYC. Since access to the building is controlled, persons wishing to attend should, not later than three (3) days prior to each meeting, notify Audrey Watson at 212-720-8403, fax 720-1756 of their participation, along with address, contact numbers and affiliation. For futher information on the proposed rules or the Hague Conference, please contact Joyce Hansen, Sr. Vice President, New York Federal Reserve, at 212-720-5024, fax 212-720-1756 or Harold Burman, Office of the Legal Adviser, State Department, 202-776-8421; fax 202-776-8482.

Dated: October 23, 2002.
Harold S. Burman,
Executive Director, Secretary of State's Advisory Committee on Private International Law, Department of State.

[FR Doc. 02-28219 Filed 11-5-02; 8:45 am]

BILLING CODE 4710-08-P